DEPARTMENT OF COMMERCE

Bureau of Export Administration

Information Systems Technical Advisory Committee; Notice of Partially Closed Meeting

The information Systems Technical Advisory Committee (ISTAC) will meet on February 3 & 4, 2000, 9 a.m., at the SPAWAR Systems Center, Rosecrans Street (Point Loma area), San Diego, California. Committee members and visitors are asked to cheek in at Visitor Reception before the meeting. Both the public session and the closed session will be held in Building 111, Room 266. The Committee advises the Office of the Assistant Secretary for Export Administration on technical questions that affect the level of export controls applicable to information systems equipment and technology.

February 3

Public Session

1. Comments or presentations by the public.

2. An industry proposal on changes to Category 5—telecommunications.

3. Overview of encryption regulations: an industry perspective.

4. Industry presentation on low-power microprocessors.

5. An industry proposal on changes to semiconductor manufacturing equipment controls.

6. Discussion on alternatives to Composite Theoretical Performance (CTP) for measuring computer performance.

February 3 & 4

Closed Session

7. Discussion of matters properly classified under Executive Order 12958, dealing with U.S. export control programs and strategic criteria related thereto.

A limited number of seats will be available for the public session. Reservations are not required. To the extent time permits, members of the public may present oral statements to the Committee. The public may submit written statements at any time before or after the meeting. However, to facilitate distribution of public presentation materials to Committee members, the Committee suggests that public presentation materials or comments be forwarded before the meeting to the address listed below:

Ms. Lee Ann Carpenter, Advisory Committees MS: 3876, U.S. Department of Commerce, 15th St. & Pennsylvania Ave., N.W., Washington, D.C. 20230

The Assistant Secretary for Administration, with the concurrence of the delegate of the General Counsel, formally determined on September 10, 1999, pursuant to section 10(d) of the Federal Advisory Committee Act, as amended, that the series of meetings or portions of meetings of these Committees and of any Subcommittees thereof, dealing with the classified materials listed in 5 U.S.C. 552(c)(1) shall be exempt from the provisions relating to public meetings found in section 10(a)(1) and (a)(3), of the Federal Advisory Committee Act. The remaining series of meetings or portions thereof will be open to the public.

A copy of the Notice of Determination to close meetings or portions of meetings of these Committees is available for public inspection and copying in the Central Reference and Records Inspection Facility, Room 6020, U.S. Department of Commerce, Washington, D.C. For further information or copies of the minutes call Lee Ann Carpenter, 202-482-2583.

Dated: January 11, 2000.
Lee Ann Carpenter,
Committee Liaison Officer.

FR Doc. 00-1098 Filed 1-14-00; 8:45am]

BILLING CODE 3510-33-M